DEPARTMENT OF TRANSPORTATION

Federal Aviation Administration

14 CFR Part 71

[Docket No. FAA-2003-16622; Airspace Docket No. 03-ASO-21]

Amendment of Class E Airspace; Lexington, TN

AGENCY: Federal Aviation Administration (FAA), DOT.

ACTION: Final rule.

SUMMARY: This action amends Class E5 airpace at Lexington, TN. As a result of an evaluation, it has been determined a modification should be made to the Lexington, TN Class E5 airspace area to contain the VHF Omnidirectional Range (VOR) or Global Positioning Systems (GPS) Runway 33, Standard Instrument Approach Procedure (SIAP) to Franklin Wilkins Airport. Additional controlled airspace extending upward from 700 feet Above Ground Level (AGL) is needed to contain the SIAP.

EFFECTIVE DATE: 0901 UTC, June 10, 2004.

FOR FURTHER INFORMATION CONTACT: Walter R. Cochran, Manager, Airspace Branch, Air Traffic Division, Federal Aviation Administration, P.O. Box 20636, Atlanta, Georgia 30320; telephone (404) 305-5586.

SUPPLEMENTARY INFORMATION:

History

On January 15, 2004, the FAA proposed to amend part 71 of the Federal Aviation Regulations (14 CFR part 71) by amending Class E5 airspace at Lexington, TN, (69 FR 2312). This action provides adequate Class E5 for IFR operations at Lexington, TN, Franklin Wilkins Airport, Designations for Class E are published in FAA Order 7400.9L, dated September 2, 2003, and effective September 16, 2003, which is incorporated by reference in 14 CFR 71.1. The Class E designations listed in this document will be published subsequently in the Order.

Interested parties were invited to participate in this rulemaking proceeding by submitting written comments on the proposal to the FAA. No comments objecting to the proposal were received.

The Rule

This amendment to part 71 of the Federal Aviation Regulations (14 CFR part 71) amends Class E5 airspace at Lexington, TN.

The FAA has determined that this rule only involves an established body of technical regulations for which frequent and routine amendments are necessary to keep them operationally current. It, therefore, (1) is not a “significant regulatory action” under Executive Order 12866; (2) is not a “significant rule” under DOT Regulatory Policies and Procedures Policies and Procedures (44 FR 11034; February 26, 1979); and (3) does not warrant preparation of a Regulatory Evaluation as the anticipated impact is so minimal. Since this is a routine matter that will only affect air traffic procedures and air navigation, it is certified that this rule, when promulgated, will not have a significant economic impact on a substantial number of small entities under the criteria of the Regulatory Flexibility Act.

List of Subjects in 14 CFR Part 71

Airspace, Incorporation by reference, Navigation (air).

Adoption of the Amendment

In consideration of the foregoing, the Federal Aviation Administration amends 14 CFR part 71 as follows:

PART 71—DESIGNATION OF CLASS A, CLASS B, CLASS C, CLASS D, AND CLASS E AIRSPACE AREAS; AIRWAYS; ROUTES; AND REPORTING POINTS

1. The authority citation for Part 71 continues to read as follows:

Authority: 49 U.S.C. 106(g); 40103, 40113, 40120; E.O. 10854, 24 FR 9565, 3 CFR, 1959-1963 Comp., p. 389.

§ 71.1 [Amended]

2. The incorporation by reference in 14 CFR 71.1 of Federal Aviation Administration Order 74300.9L, Airspace Designations and Reporting Points, dated September 2, 2003, and effective September 16, 2003, is amended as follows:

Paragraph 6005 Class E airspace areas extending upward from 700 feet or more above the surface of the earth.

* * * * *

ASO TN E5 Lexington, TN [Revised]

Lexington, Franklin Wilkins Airport, TN

(Lat. 35°39′05″ N, long. 88°22′44″ W)

Jacks Creek VORTAC

(Lat. 35°35′56″ N, long. 88°21′32″ W)

That airspace extending upward from 700 feet above the surface within a 6.6-mile radius of Franklin Wilkins Airport, and within 8 miles east and 4 miles west of the Jacks Creek VORTAC 166° radial extending from the 6.6-mile radius to 16 miles southeast of the VORTAC.

* * * * *

Issued in College Park, Georgia, on February 26, 2004.
Jeffrey U. Vincent,
Acting Manager, Air Traffic Division, Southern Region.

[FR Doc. 04-6047 Filed 3-22-04; 8:45 am]

BILLING CODE 4910-13-M